CHEMICAL SAFETY AND HAZARD INVESTIGATION BOARD

Sunshine Act Meeting

TIME AND DATE: May 6, 2015, 2014, 9:30 a.m.-1:00 p.m. EDT.

PLACE: U.S. Chemical Safety Board, 2175 K St. NW., 4th Floor Conference Room, Washington, DC 20037.

STATUS: Open to the public.

MATTERS TO BE CONSIDERED:

The Chemical Safety and Hazard Investigation Board (CSB) will convene a public meeting on May 6, 2015, starting a 9:30 a.m. at the CSB's headquarters located at 2175 K St. NW., 4th Floor Conference Room, Washington, DC 20037. At the public meeting, the Board will discuss and may vote on motions related to the following:

1. Proposed amendments to 40 CFR 1600 to provide for regular Sunshine Act meetings and to address timely voting on calendared notation item votes;

2. Proposed schedule for regular CSB public business meetings;

3. Notation Item 2015-07 relating to Board governance, the issuance of two Board Orders on Scoping and Investigations, respectively, and the administrative closure of three investigations (calendared on March 10, 2015); and the

4. 2015 CSB Action Plan;

Additionally, the Board will hear status reports on the development of an overall CSB investigations plan and the process for updating the CSB's investigation protocol.

Additional Information

The meeting is free and open to the public. If you require a translator or interpreter, please notify the individual listed below as the contact person for further information, at least three business days prior to the meeting.

The CSB is an independent federal agency charged with investigating accidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

This public meeting will be principally focused on the business-related issues described in the agenda, above.

Public Comment

Members of the public are invited to make brief statements to the Board concerning the agenda items outlined in this Federal Register notice. The time provided for public statements will depend upon the number of people who wish to speak. Speakers should assume that their presentations will be limited to five minutes or less, but commenters may submit written statements for the record.

Contact Person for Further Information

Hillary J. Cohen, Communications Manager, hillary.cohen@csb.gov or (202) 446-8094. General information about the CSB can be found on the agency Web site at: www.csb.gov.

Dated: April 23, 2015.
Mark Griffon,
Board Member.

[FR Doc. 2015-09913 Filed 4-24-15; 11:15 am]

BILLING CODE 6350-01-P